DEPARTMENT OF TRANSPORTATION

Federal Aviation Administration

14 CFR Part 61

[Docket No. FAA-2007-27812; Amendment No. 61-121]

RIN 2120-AI91

Modification of Certain Medical Standards and Procedures and Duration of Certain Medical Certificates; Correcting Amendment

AGENCY: Federal Aviation Administration (FAA), DOT.

ACTION: Final rule; correcting amendment.

SUMMARY: The FAA is correcting amendatory language and regulatory text regarding one paragraph of the final rule entitled “Modification of Certain Medical Standards and Procedures and Duration of Certain Medical Certificates”. The rule extends the duration of first- and third-class medical certificates for certain individuals. The FAA intended to revise an entire paragraph of the section entitled “Duration of a medical certificate”; however, the amendatory language incorrectly indicates that only one paragraph is being revised.

DATES: Effective August 18, 2008.

FOR FURTHER INFORMATION CONTACT: Zara V. Willis, Office of Rulemaking, Federal Aviation Administration, 800 Independence Avenue, SW., Washington, DC 20591; telephone (202) 493-4405; e-mail Zara.Willis@faa.gov.

SUPPLEMENTARY INFORMATION:

Background

On July 24, 2008, the FAA published a final rule that extends the duration of the FAA airman medical certificates for certain pilots under the age of 40 at the time of their last medical examination (73 FR 43059). First-class medical certificates, required for airline transport pilot operations, are now valid for 1 year instead of 6 months; third-class medical certificates, required for private pilot operations, are now valid for 5 years instead of 3 years.

In the final rule, the FAA intended to revise § 61.23(d) in its entirety, but inadvertently categorized it only as a revision to paragraph (d)(1).

Correction

This correction makes no changes to the substance of the original final rule. It corrects the amendatory language by revising the entire paragraph (d) of § 61.23, as intended, instead of only paragraph (d)(1). It also corrects the regulatory text by removing (1) of the introductory text to paragraph (d). Moreover, the correction brings paragraph designations under (d) in conformance with the proper format requirements. Consequently, the paragraphs in the first column that were previously designated as (i), (ii), and (iii) are now designated as (1), (2), and (3). The paragraphs in the second column that were previously designated with capital letters ((A), (B), (C), etc.) are now designated with roman numerals ((i), (ii), (iii), etc.). The text of the entire table remains the same.

List of Subjects in 14 CFR Part 61

Aircraft, Airmen, Aviation safety, and Reporting and recordkeeping requirements.

Accordingly, 14 CFR part 61 is corrected by making the following correcting amendment:

PART 61—CERTIFICATION: PILOTS, FLIGHT INSTRUCTORS, AND GROUND INSTRUCTORS

1. The authority citation for part 61 continues to read as follows:

Authority: 49 U.S.C. 106(g), 40113, 44701-44703, 44707, 44709-44711, 45102-45103, 45301-45302.

2. Amend § 61.23 by revising paragraph (d) to read as follows:

§ 61.23 Medical certificates: Requirement and duration.

* * * * *

(d) Duration of a medical certificate. Use the following table to determine duration for each class of medical certificate:

If you hold | And on the date of examination for your most recent medical certificate you were | And you are conducting an operation requiring | Then your medical certificate expires, for that operation, at the end of the last day of the
(1) A first-class medical certificate | (i) Under age 40 | an airline transport pilot certificate | 12th month after the month of the date of examination shown on the medical certificate.
| (ii) Age 40 or older | an airline transport pilot certificate | 6th month after the month of the date of examination shown on the medical certificate.
| (iii) Any age | a commercial pilot certificate or an air traffic control tower operator certificate | 12th month after the month of the date of examination shown on the medical certificate.
| (iv) Under age 40 | a recreational pilot certificate, a private pilot certificate, a flight instructor certificate (when acting as pilot in command or a required pilot flight crewmember in operations other than glider or balloon), a student pilot certificate, or a sport pilot certificate (when not using a U.S. driver's license as medical qualification) | 60th month after the month of the date of examination shown on the medical certificate.
| (v) Age 40 or older | a recreational pilot certificate, a private pilot certificate, a flight instructor certificate (when acting as pilot in command or a required pilot flight crewmember in operations other than glider or balloon), a student pilot certificate, or a sport pilot certificate (when not using a U.S. driver's license as medical qualification) | 24th month after the month of the date of examination shown on the medical certificate.
(2) A second-class medical certificate | (i) Any age | a commercial pilot certificate or an air traffic control tower operator certificate | 12th month after the month of the date of examination shown on the medical certificate.
| (ii) Under age 40 | a recreational pilot certificate, a private pilot certificate, a flight instructor certificate (when acting as pilot in command or a required pilot flight crewmember in operations other than glider or balloon), a student pilot certificate, or a sport pilot certificate (when not using a U.S. driver's license as medical qualification) | 60th month after the month of the date of examination shown on the medical certificate.
| (iii) Age 40 or older | a recreational pilot certificate, a private pilot certificate, a flight instructor certificate (when acting as pilot in command or a required pilot flight crewmember in operations other than glider or balloon), a student pilot certificate, or a sport pilot certificate (when not using a U.S. driver's license as medical qualification) | 24th month after the month of the date of examination shown on the medical certificate.
(3) A third-class medical certificate | (i) Under age 40 | a recreational pilot certificate, a private pilot certificate, a flight instructor certificate (when acting as pilot in command or a required pilot flight crewmember in operations other than glider or balloon), a student pilot certificate, or a sport pilot certificate (when not using a U.S. driver's license as medical qualification) | 60th month after the month of the date of examination shown on the medical certificate.
| (ii) Age 40 or older | a recreational pilot certificate, a private pilot certificate, a flight instructor certificate (when acting as pilot in command or a required pilot flight crewmember in operations other than glider or balloon), a student pilot certificate, or a sport pilot certificate (when not using a U.S. driver's license as medical qualification) | 24th month after the month of the date of examination shown on the medical certificate.

Issued in Washington, DC, on August 13, 2008.
Pamela Hamilton,
Director, Office of Rulemaking.

[FR Doc. E8-19039 Filed 8-15-08; 8:45 am]

BILLING CODE 4910-13-P